Proclamation 9225 of December 31, 2014

National Slavery and Human Trafficking Prevention Month, 2015

By the President of the United States of America

A Proclamation

For more than two centuries, the United States has worked to advance the cause of freedom. Stained from a history of slavery and shaped by ancestors brought to this country in chains, today, America shines as a beacon of hope to people everywhere who cherish liberty and opportunity. Still, our society remains imperfect, and our Nation has more work to do to uphold these values. At home and around the globe, we must continue to fight for human dignity and the inalienable rights of every person.

Today, millions of men, women, and children are victims of human trafficking. This modern-day slavery occurs in countries throughout the world and in communities across our Nation. These victims face a cruelty that has no place in a civilized world: children are made to be soldiers, teenage girls are beaten and forced into prostitution, and migrants are exploited and compelled to work for little or no pay. It is a crime that can take many forms, and one that tears at our social fabric, debases our common humanity, and violates what we stand for as a country and a people.

Founded on the principles of justice and fairness, the United States continues to be a leader in the global movement to end modern-day slavery. We are working to combat human trafficking, prosecute the perpetrators, and help victims recover and rebuild their lives. We have launched national initiatives to help healthcare workers, airline flight crews, and other professionals better identify and provide assistance to victims of trafficking. We are strengthening protections and supporting the development of new tools to prevent and respond to this crime, and increasing access to services that help survivors become self-sufficient. We are also working with our international partners and faith-based organizations to bolster counter-trafficking efforts in countries across the globe.

As we fight to eliminate trafficking, we draw strength from the courage and resolve of generations past—and in the triumphs of the great abolitionists that came before us, we see the promise of our Nation: that even in the face of impossible odds, those who love their country can change it. Every citizen can take action by speaking up and insisting that the clothes they wear, the food they eat, and the products they buy are made free of forced labor. Business and non-profit leaders can ensure their supply chains do not exploit individuals in bondage. And the United States Government will continue to address the underlying forces that push so many into the conditions of modern-day slavery in the first place.

During National Slavery and Human Trafficking Prevention Month, we stand with the survivors, advocates, and organizations dedicated to building a world where our people and our children are not for sale. Together, let us recommit to a society where our sense of justice tells us that we are our brothers' and sisters' keepers, where every person can forge a life equal to their talents and worthy of their dreams.

NOW, THEREFORE, I, BARACK OBAMA, President of the United States of America, by virtue of the authority vested in me by the Constitution and the laws of the United States, do hereby proclaim January 2015 as National Slavery and Human Trafficking Prevention Month, culminating in the annual celebration of National Freedom Day on February 1. I call upon businesses, national and community organizations, families, and all Americans to recognize the vital role we can play in ending all forms of slavery and to observe this month with appropriate programs and activities.

IN WITNESS WHEREOF, I have hereunto set my hand this thirty-first day of December, in the year of our Lord two thousand fourteen, and of the Independence of the United States of America the two hundred and thirty-ninth.

[FR Doc. 2015-00073

Filed 1-6-15; 8:45 am]

Billing code 3295-F5